FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 17, 2011.

A. Federal Reserve Bank of Atlanta (Clifford Stanford, Vice President) 1000 Peachtree Street, N.E., Atlanta, Georgia 30309:

1. William Russell Carothers II, Robert Leroy Carothers, Christian Hill Carothers, all of Winfield, Alabama, and William R. Carothers, III, Birmingham, Alabama; to retain voting shares of Citizens Bancorp of Winfield, Inc., and thereby indirectly retain voting shares of The Citizens Bank of Winfield, both in Winfield, Alabama.

2. Charles E. Gleghorn, and Hue G. Counts, both of Fayetteville, Tennessee; Hardy B. Ferrell, Mulberry, Tennessee; Roger Everett Jones, New Market, Alabama; and Joe Lee Lasater, Hazel Green, Alabama; to collectively acquire voting shares of North Alabama Bancshares, Inc. and thereby indirectly acquire voting shares of North Alabama Bank, both of Hazel Green, Alabama.

3. P. Byron DeFoor, Ooltewah, Tennessee, and Winston A. Porter, Atlanta, Georgia; to collectively acquire voting shares of Northside Bancshares, Inc., and thereby indirectly acquire voting shares of Northside Bank, both of Adairsville, Georgia.

4. Michael Hull Erdman, Merritt Island, Florida; to retain voting shares of Sunrise Bank, Cocoa Beach, Florida.

Board of Governors of the Federal Reserve System, February 25, 2011.
Jennifer J. Johnson,
Secretary of the Board.

[FR Doc. 2011-4693 Filed 3-2-11; 8:45 am]

BILLING CODE 6210-01-P